DEPARTMENT OF TRANSPORTATION

National Highway Traffic Safety Administration

[Docket No. NHTSA-2021-0051]

Agency Information Collection Activities; Notice and Request for Comment; National Survey of Pedestrian and Bicyclist Attitudes, Knowledge, and Behaviors

AGENCY: National Highway Traffic Safety Administration (NHTSA), Department of Transportation (DOT).

ACTION: Notice and request for comments on a reinstatement with modification of a previously approved collection of information.

SUMMARY: The National Highway Traffic Safety Administration (NHTSA) invites public comments about our intention to request approval from the Office of Management and Budget (OMB) for a reinstatement with modification of a previously approved collection of information. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on the National Survey of Pedestrian and Bicyclist Attitudes, Knowledge, and Behaviors.

DATES: Comments must be submitted on or before June 3, 2022.

ADDRESSES: You may submit comments identified by the Docket No. NHTSA-2021-0051 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Kristie Johnson, Ph.D., Office of Behavioral Safety Research (NPD-310), (202) 366-2755, kristie.johnson@dot.gov, National Highway Traffic Safety Administration, W46-498, 1200 New Jersey Avenue SE, Washington, DC 20590. Please identify the relevant collection of information by referring to its OMB Control Number 2127-0684.

SUPPLEMENTARY INFORMATION: Under the Paperwork Reduction Act of 1995 (PRA) (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: National Survey of Pedestrian and Bicyclist Attitudes, Knowledge, and Behaviors.

OMB Control Number: 2127-0684.

Form Numbers: NHTSA Forms 1148, 1613, 1614, 1615, 1616, 1617, 1618.

Type of Request: Reinstatement with modification of a previously approved information collection (OMB Control No. 2127-0684).

Type of Review Requested: Regular.

Requested Expiration Date of Approval: 3 years from date of approval.

Summary of the Collection of Information: NHTSA is seeking approval to conduct a National Survey of Pedestrian and Bicyclist Attitudes, Knowledge, and Behaviors by web and mail among a national probability sample of 7,500 adults (and 150 adults for a pilot survey), age 18 and older to obtain up-to-date information about bicyclist and pedestrian attitudes and behaviors. Participation by respondents would be voluntary. Survey topics include the extent to which Americans engage in walking and bicycling activity, their attitudes toward and experience with various facilities, road conditions, and technologies, and their opinions on pedestrian and bicycling safety topics.

In conducting the proposed research, the survey would use computer-assisted web interviewing (i.e., a programmed, self-administered web survey) to minimize recording errors, as well as optical mark recognition and image scanning for the paper and pencil survey to facilitate ease of use and data accuracy. A Spanish-language survey option would be used to minimize language barriers to participation. Surveys would be conducted with respondents using an address-based sampling design that encourages respondents to complete the survey online. Although web-based interviewing would be the primary data collection mode, a paper questionnaire would be sent to households that do not respond to the web invitations. This collection only requires respondents to report their answers; there are no recordkeeping costs to the respondents.

Description of the Need for the Information and Proposed Use of the Information: NHTSA was established by the Highway Safety Act of 1970 and its mission is to reduce the number of deaths, injuries, and economic losses resulting from motor vehicle crashes on the Nation's highways. To further this mission, NHTSA is authorized to conduct research as a foundation for the development of traffic safety programs. Title 23, United States Code, Section 403, gives the Secretary of Transportation (NHTSA by delegation) authorization to use funds appropriated to conduct research and development activities, including demonstration projects and the collection and analysis of highway and motor vehicle safety data and related information, with respect to all aspects of highway and traffic safety systems and conditions relating to vehicle, highway, driver, passenger, motorcyclist, bicyclist, and pedestrian characteristics; accident causation and investigations; and human behavioral factors and their effect on highway and traffic safety. Pedestrian safety and bicyclist safety are two of multiple behavioral areas for which NHTSA has developed comprehensive programs to meet its injury reduction goals. The major components of pedestrian and bicyclist safety programs are education, enforcement, and outreach.

NHTSA encourages walking and bicycling as alternate modes of transportation to motor vehicle travel; however, pedestrians and bicyclists are among the most vulnerable road users. Motor vehicle crashes in 2019 accounted for 6,205 pedestrian fatalities and 846 bicyclist and other cyclist fatalities.¹ That same year, 76,000 pedestrians and 49,000 bicyclists were injured in traffic crashes. Moreover, increasing safe walking and bicycling behavior is promoted as a positive contributor to the quality of life. But an increase in walking and bicycling often means an increase in exposure to potential risk of collision with motor vehicles, underscoring the need to have in place aggressive pedestrian and bicyclist safety programs to reduce injuries and fatalities. This in turn requires periodic data collection to assess whether the programs continue to be responsive to the public's information needs, behavioral intentions, attitudes, physical environment, and other factors that contribute to safety while walking or bicycling.

¹ National Center for Statistics and Analysis. (2021, March). Quick facts 2019 (Report No. DOT HS 813 124). National Highway Traffic Safety Administration. https://crashstats.nhtsa.dot.gov/Api/Public/ViewPublication/813124.

The National Survey of Pedestrian and Bicyclist Attitudes, Knowledge, and Behaviors was conducted on two previous occasions—first in 2002 and again in 2012. Those surveys provided program planners and community leaders with detailed information on walking and bicycling behavior, level of support for facilities assisting those activities and awareness of safety issues. Since it has been ten years since NHTSA last conducted the survey, the information needs updating, especially given recent programs and initiatives to increase walking and bicycling, as well as the emergence of new technologies including e-bikes, e-scooters, and fitness trackers. This project will provide that update by conducting the 2022 National Survey of Bicyclist and Pedestrian Attitudes and Behaviors. In the 2022 survey, NHTSA intends to examine the extent to which Americans engage in walking and bicycling activity, their attitudes towards and experience with various facilities, road conditions, and technologies, and their opinions on pedestrian and bicycling safety topics. Furthermore, NHTSA plans to assess whether self-reported behaviors, attitudes, and perceptions regarding walking and bicycling have changed over time since the administration of the prior national surveys. NHTSA will use the findings to assist States, localities, and communities in developing and refining walking and bicycling safety programs that will aid in their efforts to reduce pedestrian and bicyclist crashes and injuries.

NHTSA will use the information to produce a technical report that presents the results of the study. The technical report will provide aggregate (summary) statistics and tables as well as the results of statistical analysis of the information, but it will not include any personally identifiable information. The technical report will be shared with State highway offices, local governments, and those who develop traffic safety communications that aim to reduce pedestrian and bicyclist crashes.

Affected Public: Participants will be U.S. adults (18 years old and older). Businesses are ineligible for the sample and would not be interviewed.

Estimated Number of Respondents: 7,650.

Participation in this study will be voluntary. For the main survey collection, 7,500 participants will be sampled from all 50 States and the District of Columbia using address data from the most recent U.S. Postal Service (USPS) computerized Delivery Sequence File (DSF) of residential addresses. An estimated 22,943 households will be contacted and have the study described to them. No more than one respondent will be selected per household.

Prior to the main survey, a pilot survey will be administered to test the survey and the mailing protocol and procedures. Participation in this study will be voluntary with 150 participants sampled from all 50 States and the District of Columbia using address data from the most recent USPS computerized DSF of residential addresses. An estimated 459 households will be contacted and have the study described to them. No more than one respondent will be selected per household.

Frequency of Collection: The study will be conducted one time during the three-year period for which NHTSA is requesting approval, with a small pilot study occurring several months before the study's full launch. This study is part of a tracking and trending study to measure changes over time. The last study was administered in 2012.

Estimated Total Annual Burden Hours: NHTSA estimates the total burden of this information collection by estimating the burden to those who NHTSA contacts but do not respond (non-responders) and those who respond and are eligible for participation (eligible respondents or actual participants). As virtually all households have at least one adult 18 or older, all households are eligible to participate and, as such, no burden is calculated for ineligible respondents. The estimated time to contact 22,943 potential participants (actual participants and non-responders) for the survey and 459 potential participants (actual participants and non-responders) for the pilot is one minute per person per contact attempt. Contact attempts will be made in five waves with fewer potential participants contacted in each subsequent wave. NHTSA estimates that 7,500 people will respond to the survey request and 150 will respond to the pilot. The estimated time to contact (1 minute) and complete the survey (20 minutes) for 7,500 participants and 150 pilot participants is 21 minutes per person. Table 1 provides a description for each of the forms used in the survey protocol as well as their mailing wave. Details of the burden hours for each wave in the pilot and full survey are included in Tables 2 and 3 below. When rounded up to the nearest whole hour for each data collection effort, the total estimated annual burden is 4,182 hours for the project activities. Table 4 provides total burden hours associated with each form.

Table 1—NHTSA Form Number, Description, and Mailing Wave
NHTSA Form No. | Description | Mailing wave
1148 | Questionnaire—National Survey of Pedestrian and Bicyclist Attitudes, Knowledge, and Behaviors (English) | 3, 5
1613 | Questionnaire—National Survey of Pedestrian and Bicyclist Attitudes, Knowledge, and Behaviors (Spanish) | 3, 5
1614 | Initial Invitation Letter | 1
1615 | Reminder Postcard #1 | 2
1616 | Cover Letter included with 1st mailing of the paper survey | 3
1617 | Reminder Postcard #2 | 4
1618 | Cover Letter included with 2nd mailing of the paper survey | 5

Table 2—Estimated Total Burden for Pilot Survey
Mailing wave (Form No.) | Number of contacts | Participant type | Estimated burden per sample unit (in minutes) | Frequency of burden | Number of sample units | Burden hours * | Total burden hours *
Wave 1 (NHTSA Form 1614) | 459 | Contacted potential participant—Non-respondent Recruited participant—Eligible respondent | 1 21 | 1 1 | 409 50 | 7 18 | 25
Wave 2 (NHTSA Form 1615) | 409 | Contacted potential participant—Non-respondent Recruited participant—Eligible respondent | 1 21 | 1 1 | 379 30 | 7 11 | 18
Wave 3 (NHTSA Forms 1148, 1613, 1616) | 379 | Contacted potential participant—Non-respondent Recruited participant—Eligible respondent | 1 21 | 1 1 | 341 38 | 6 14 | 20
Wave 4 (NHTSA Form 1617) | 341 | Contacted potential participant—Non-respondent Recruited participant—Eligible respondent | 1 21 | 1 1 | 322 19 | 6 7 | 13
Wave 5 (NHTSA Forms 1148, 1613, 1618) | 322 | Contacted potential participant—Non-respondent Recruited participant—Eligible respondent | 1 21 | 1 1 | 309 13 | 6 5 | 11
Total |  |  |  |  |  |  | 87
* Rounded up to the nearest hour.

Table 3—Estimated Total Burden for Main Data Collection Survey
Mailing wave (Form No.) | Number of contacts | Participant type | Estimated burden per sample unit (in minutes) | Frequency of burden | Number of sample units | Burden hours * | Total burden hours *
Wave 1 (NHTSA Form 1614) | 22,943 | Contacted potential participant—Non-respondent Recruited participant—Eligible respondent | 1 21 | 1 1 | 20,443 2,500 | 341 875 | 1,216
Wave 2 (NHTSA Form 1615) | 20,443 | Contacted potential participant—Non-respondent Recruited participant—Eligible respondent | 1 21 | 1 1 | 18,943 1,500 | 316 525 | 841
Wave 3 (NHTSA Forms 1148, 1613, 1616) | 18,943 | Contacted potential participant—Non-respondent Recruited participant—Eligible respondent | 1 21 | 1 1 | 17,049 1,894 | 285 663 | 948
Wave 4 (NHTSA Form 1617) | 17,049 | Contacted potential participant—Non-respondent Recruited participant—Eligible respondent | 1 21 | 1 1 | 16,102 947 | 269 332 | 601
Wave 5 (NHTSA Forms 1148, 1613, 1618) | 16,102 | Contacted potential participant—Non-respondent Recruited participant—Eligible respondent | 1 21 | 1 1 | 15,443 659 | 258 231 | 489
Total |  |  |  |  |  |  | 4,095
* Rounded up to the nearest hour.

Table 4—Estimated Total Burden by NHTSA Form for the Pilot and Main Data Collection Surveys
Information collection | Number of responses | Burden per response (minutes) | Burden per respondent (minutes) | Total burden hours
NHTSA Forms 1148 and 1613 | 7,650 | 20 | 20 | 2,550
NHTSA Form 1614 | * 23,850 | 1 | 1 | * 398
NHTSA Form 1615 | 20,852 | 1 | 1 | 348
NHTSA Form 1616 | 19,322 | 1 | 1 | 322
NHTSA Form 1617 | 17,390 | 1 | 1 | 290
NHTSA Form 1618 | 16,424 | 1 | 1 | 274
Total |  |  |  | 4,182
* Rounded up based on individual waves.

Estimated Total Annual Burden Cost: Participation in this study is voluntary, and there are no costs to respondents beyond the time spent completing the questionnaires.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29.

Nanda Narayanan Srinivasan,
Associate Administrator, Research and Program Development.

[FR Doc. 2022-06989 Filed 4-1-22; 8:45 am]

BILLING CODE 4910-59-P